ENVIRONMENTAL PROTECTION AGENCY

40 CFR Part 1042

Control of Emissions From New and In-Use Marine Compression-Ignition Engines and Vessels; CFR Correction

Correction

In rule document 2011-8794 appearing on pages 20550-20551 in the issue of Wednesday, April 13, 2011, make the following correction:

§ 1042.901 [Corrected]

On page 20551, in the first column, in the sixth through ninth lines, the equation should read:

Percent of value = [(Value after modification) (Value before modification)] × 100% ÷ (Value after modification)

[FR Doc. C1-2011-8794 Filed 5-3-11; 8:45 am]

BILLING CODE 1505-01-D